DEPARTMENT OF DEFENSE

Office of the Secretary

Defense Science Board

ACTION: Meeting date change of advisory committee meeting.

SUMMARY: The Defense Science Board (DSB) Task Force on Systems Technology for the Future U.S. Strategic Posture closed meeting scheduled for February 14-15, 2001, has been changed to February 13-14, 2001. The meeting will be held at Strategic Analysis Inc., 3601 Wilson Boulevard, Suite 600, Arlington, VA.

Dated: January 17, 2001.
L.M. Bynum,
Alternate OSD Federal Register Liaison Officer, Department of Defense.

[FR Doc. 01-1880 Filed 1-22-01; 8:45 am]

BILLING CODE 5001-10-M